ARCHITECTURAL AND TRANSPORTATION BARRIERS COMPLIANCE BOARD

[Docket No. ATBCB-2024-0004

Proposed Submission of Information Collection; Comment Request; Online Training Request Form

AGENCY: Architectural and Transportation Barriers Compliance Board.

ACTION: Notice and request for comments.

SUMMARY: In accordance with the Paperwork Reduction Act of 1995 (PRA), the Architectural and Transportation Barriers Compliance Board (Access Board or Board) invites comment on a proposed new collection of information titled “Technical Assistance Training Request Form”. The purpose of this information collection is to provide a standardized method for members of the public and State and local governments to request training from the Access Board. With this notice, the Access Board solicits comments on this new proposed information collection.

DATES: Send comments on or before September 13, 2024.

ADDRESSES: You may submit comments, identified by docket number ATBCB-2024-0004, by any of the following methods:

• Federal eRulemaking Portal: http://www.regulations.gov. Follow the instructions for submitting comments.

• Email: docket@access-board.gov. Include docket number ATBCB-2024-0004 in the subject line of the message.

• Mail: Office of General Counsel, U.S. Access Board, 1331 F Street NW, Suite 1000, Washington, DC 20004-1111.

Instructions: All submissions must include the docket number (ATBCB-2024-0004) for this regulatory action. All comments received will be posted without change to http://www.regulations.gov, including any personal information provided.

Docket: For access to the docket to read background documents or comments received, go to https://www.regulations.gov/docket/ATBCB-2024-0004.

FOR FURTHER INFORMATION CONTACT: Attorney Advisor Wendy Marshall, (202) 272-0043, marshall@access-board.gov.

SUPPLEMENTARY INFORMATION:

I. Background

Under the PRA and its implementing regulations (5 CFR part 1320), Federal agencies must obtain approval from the Office of Management and Budget (OMB) for each collection of information they conduct or sponsor (e.g., contractually-required information collection by a third-party). “Collection of information,” within the meaning of the PRA, includes agency requests that pose identical questions to, or impose reporting or recording keeping obligations on, ten or more persons, regardless of whether response to such request is mandatory or voluntary. See 5 CFR 1320.3(c); see also 44 U.S.C. 3502(3). Before seeking clearance from OMB, agencies are generally required, among other things, to publish a 60-day notice in the Federal Register concerning any proposed information collection and provide an opportunity for comment. See 44 U.S.C. 3506(c)(2)(A); 5 CFR 1320.8(d)(1).

II. Proposed New Information Collection Request

The Access Board is providing notice of its intent to seek approval of a new information collection regarding requests for training by members of the public and state and local governments. The Access Board provides training and technical assistance on the guidelines and standards that it promulgates, including design criteria for the built environment, transit vehicles, public rights-of-way, information and communication technology, and medical diagnostic equipment under the Americans with Disabilities Act of 1990, the Architectural Barriers Act of 1968, and other laws. By practice, the Access Board provides in-person and virtual training to organizations across the United States, to include State and local agencies. The Access Board receives email requests for training which currently result in multiple communications with the requestor to determine if the Access Board is able to provide the training requested. The Access Board is proposing to streamline this process for both the requestor and the Board by creating a form for the agency website to allow requestors to submit all of the necessary information at one time so the Board can review the request and make a determination whether the training can be provided. The online form will be used unless the requestor expresses a preference for another format (e.g., discussion by telephone).

OMB Control Number: X.

Title: Technical Assistance Training Request Form.

Type of Request: New Collection.

Abstract: The proposed information collection activity enables members of the public, including state and local agencies, to request technical assistance training on the standards and guidelines issued by the Access Board. This collection will allow for streamlining the process and decreasing wait times for responses to these requests.

Respondents/Affected Public: Individuals and Households; Businesses and Organizations; State, Local or Tribal Government.

Burden Estimates: In the table below (table 1), the Access Board provides estimates for the annual reporting burden under this proposed information collection. The Access Board does not anticipate incurring any capital or other direct costs associated with this information collection. Nor will there be any costs to respondents, other than their time.

Table 1—Estimated Annual Burden Hours
Type of collection | Number of respondents | Frequency of response (per year) | Average response time (mins.) | Total burden (hours)
Technical Assistance Training Request | 1,000 | 1 | 5 | 5,000
(Note: Total burden hours per collection rounded to the nearest full hour.)

Request for Comment: The Access Board seeks comment on any aspect of the proposed new information collection, including: (a) whether it is necessary for the Access Board's performance of the functions of the agency; (b) whether the information will have practical utility; (c) the accuracy of the estimated burden; (d) ways for the Access Board to enhance the quality, utility, and clarity of the information collections; and (e) ways that the burden could be minimized without reducing the quality of the collected information. Comments will be summarized and included in our request for OMB's approval of the new information collection.

Christopher Kuczynski,
General Counsel.

[FR Doc. 2024-15415 Filed 7-12-24; 8:45 am]

BILLING CODE 8150-01-P